DEPARTMENT OF THE INTERIOR

Fish and Wildlife Service

Information Collection Renewal To Be Submitted to the Office of Management and Budget (OMB) for Approval Under the Paperwork Reduction Act; Declaration for Importation or Exportation of Fish or Wildlife

AGENCY: Fish and Wildlife Service, Interior.

ACTION: Notice; request for comments.

SUMMARY: The U.S. Fish and Wildlife Service (We) has submitted the collection of information described below to OMB for approval under the provisions of the Paperwork Reduction Act of 1995. A description of the information collection requirement is included in this notice. If you wish to obtain copies of the information collection requirements, related forms, or explanatory material, contact the Service Information Collection Clearance Officer at the address or telephone number listed below.

DATES: We will accept comments until November 17, 2003.

ADDRESSES: Submit your comments on this information collection renewal to the Desk Officer for the Department of the Interior at OMB-OIRA via facsimile or e-mail using the following fax number or e-mail address: (202) 395-6566 (fax); OIRA_DOCKET@omb.eop.gov (e-mail). Please provide a copy of your comments to the Fish and Wildlife Service's Information Collection Clearance Officer, 4401 N. Fairfax Dr., MS 222 ARLSQ, Arlington, VA 22207; (703) 358-2269 (fax); or anissa_craghead@fws.gov (e-mail).

Form 3-177 (with instructions for its completion) is available for electronic submission using the electronic declaration system (eDecs) at the following Web site: https://edecs.fws.gov.

FOR FURTHER INFORMATION CONTACT: To request a copy of the information collection request, related forms, or explanatory material, contact Anissa Craghead at telephone number (703) 358-2445, or electronically at Anissa_Craghead@fws.gov.

SUPPLEMENTARY INFORMATION: OMB regulations at 5 CFR 1320, which implement provisions of the Paperwork Reduction Act of 1995 (44 U.S.C. 3501 et seq.), require that interested members of the public and affected agencies have an opportunity to comment on information collection and recordkeeping activities (see 5 CFR 1320.8(d)).

We have submitted a request to OMB to renew its approval of the collection of information included on Form 3-177, Declaration For Importation or Exportation of Fish or Wildlife. The current OMB control number for Form 3-177 is 1018-0012, and the OMB approval for this collection of information expires on October 31, 2003. This form (with instructions for its completion) is now available for electronic submission at the following Web site: https://edecs.fws.gov. We are requesting a three year term of approval for this information collection activity. We may not conduct or sponsor, and you are not required to respond to, a collection of information unless it displays a currently valid OMB control number.

The Endangered Species Act (16 U.S.C. 1531 et seq.) makes it unlawful to import or export fish, wildlife, or plants without filing a declaration or report deemed necessary for enforcing the Act or upholding the Convention on International Trade in Endangered Species (CITES) (see 16 U.S.C. 1538(e)). The U.S. Fish and Wildlife Service's Form 3-177, Declaration for Importation or Exportation of Fish or Wildlife, is the declaration form required of any business or individual importing into or exporting from the United States any fish, wildlife, or wildlife products. The information collected is unique to each wildlife shipment and enables us to accurately inspect the contents of the shipment; enforce any regulations that pertain to the fish, wildlife, or wildlife products contained in the shipment; and maintain records of the importation and exportation of these commodities. Additionally, since the United States is a member of CITES, much of the collected information is compiled in an annual report that is forwarded to the CITES Secretariat in Geneva, Switzerland. Submission of an annual report on the number and types of imports and exports of fish, wildlife, and wildlife products is one of our treaty obligations under CITES. We also use the information obtained from Form 3-177 as an enforcement tool and management aid in monitoring the international wildlife market and detecting trends and changes in the commercial trade of fish, wildlife, and wildlife products. Our Division of Scientific Authority and Division of Management Authority use this information to assess the need for additional protection for native species. In addition, nongovernment organizations, including the commercial wildlife community, request information from us that we obtain from Form 3-177. You must file Form 3-177 with us at the time and port where you request clearance of your import or export wildlife shipment. In certain instances, Form 3-177 may be filed with the U.S. Bureau of Customs and Border Protection. The standard information collection includes the name of the importer or exporter and broker, the scientific and common name of the fish or wildlife, permit numbers (if a permit is required), a description of the fish or wildlife, quantity and value of the fish or wildlife, and natural country of origin of the fish or wildlife. In addition, certain information, such as the airway bill or bill of lading number, the location of the wildlife shipment, and the number of cartons containing fish or wildlife, assists our wildlife inspectors if a physical examination of the shipment is required.

Title: Declaration for Importation or Exportation of Fish or Wildlife.

Approval Number: 1018-0012.

Service Form Number: 3-177.

Associated Regulations: 50 CFR 14.61 through 14.64.

Frequency of Collection: Whenever clearance is requested for an importation or exportation of fish, wildlife, or wildlife products.

Description of Respondents: Businesses or individuals that import or export fish, wildlife, or wildlife products; scientific institutions that import or export fish or wildlife scientific specimens; government agencies that import or export fish or wildlife specimens for various purposes.

Total Annual Responses: Approximately 120,000 individual Form 3-177s are filed with us in a fiscal year.

Total Annual Burden Hours: The total annual burden is approximately 26,832 hours. We estimate that approximately two-thirds (67%), or 80,400, of these responses will be completed by hand. Each of these responses will require approximately .25 hours (15 minutes) of the importer's or exporter's time. This amount includes approximately .08 hours (5 minutes) for reviewing instructions and approximately .17 hours (10 minutes) to complete Form 3-177. We estimate that approximately one-third (33%), 39,600, of the responses received will be submitted electronically. Using eDecs should reduce the time to complete Form 3-177 to about .08 hours (5 minutes) per response. Therefore, the total time to review instructions (.08 hours/5 minutes) and complete Form 3-177 electronically amounts to approximately .17 hours (10 minutes) per response. As such, the total estimated reporting burden for completing Form 3-177 is approximately 26,832 hours [(80,400 × .25 hours = 20,100 hours) + (39,600 × .17 hours = 6,732 hours)]. The estimate of electronic responses we expect to receive is based upon a recent pilot program of eDecs. We anticipate that the use of eDecs will expand in the future, which would further reduce the burden on the public.

We invite comments concerning this renewal on: (1) Whether the collection of information is useful and necessary for us to do our job, (2) the accuracy of our estimate of the burden on the public to complete the form; (3) ways to enhance the quality and clarity of the information to be collected; and (4) ways to minimize the burden of the collection on respondents, including use of appropriate automated, electronic, mechanical, or other technological collection techniques or other forms of information technology. This information collection is part of a system of records covered by the Privacy Act (5 U.S.C. 552(a)).

Our practice is to make comments, including names and home addresses of respondents, available for public review during regular business hours. Individual respondents may request that we withhold their home addresses from the record, which we will honor to the extent allowable by law. There may also be limited circumstances in which we would withhold a respondent's identity from the rulemaking record, as allowable by law. If you wish us to withhold your name and/or address, you must state this clearly at the beginning of your comment. We will not consider anonymous comments. We generally make all submissions from organizations or businesses, and from individuals identifying themselves as representatives or officials of organizations or businesses, available for public inspection in their entirety.

Dated: September 22, 2003.
Anissa Craghead,
Information Collection Officer, Fish and Wildlife Service.

[FR Doc. 03-26120 Filed 10-15-03; 8:45 am]

BILLING CODE 4310-55-P